ENVIRONMENTAL PROTECTION AGENCY

40 CFR Part 52

[MD202-3118; FRL-8775-2]

Approval and Promulgation of Air Quality Implementation Plans; Maryland; Update to Materials Incorporated by Reference

AGENCY: Environmental Protection Agency (EPA).

ACTION: Final rule; notice of administrative change.

SUMMARY: EPA is updating the materials submitted by Maryland that are incorporated by reference (IBR) into the State implementation plan (SIP). The regulations affected by this update have been previously submitted by the Maryland Department of the Environment (MDE) and approved by EPA. This update affects the SIP materials that are available for public inspection at the National Archives and Records Administration (NARA), the Air and Radiation Docket and Information Center located at EPA Headquarters in Washington, DC, and the Regional Office.

DATES: Effective Date: This action is effective March 19, 2009.

ADDRESSES: SIP materials which are incorporated by reference into 40 CFR part 52 are available for inspection at the following locations: Air Protection Division, U.S. Environmental Protection Agency, Region III, 1650 Arch Street, Philadelphia, Pennsylvania 19103; the Air and Radiation Docket and Information Center, EPA Headquarters Library, Room Number 3334, EPA West Building, 1301 Constitution Ave., NW., Washington, DC 20460, and the National Archives and Records Administration. If you wish to obtain materials from a docket in the EPA Headquarters Library, please call the Office of Air and Radiation (OAR) Docket/Telephone number: (202) 566-1742; or the National Archives and Records Administration (NARA). For information on the availability of this material at NARA, call 202-741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION: The SIP is a living document which the State revises as necessary to address the unique air pollution problems in the State. Therefore, EPA from time to time must take action on SIP revisions containing new and/or revised regulations to make them part of the SIP. On May 22, 1997 (62 FR 27968), EPA revised the procedures for incorporating by reference federally-approved SIPs, as a result of consultations between EPA and the Office of the Federal Register (OFR). The description of the revised SIP document, IBR procedures and “Identification of plan” format are discussed in further detail in the May 22, 1997 Federal Register document. On November 29, 2004 (69 FR 69304), EPA published a document in the Federal Register beginning the new IBR procedure for Maryland. On February 2, 2006 (71 FR 5607) and May 18, 2007 (72 FR 27957), EPA published an update to the IBR material for Maryland. On March 11, 2008 (73 FR 12895), EPA published a correction update to the IBR material pertaining to source-specific requirements. In this document, EPA is doing the following:

1. Announcing the update to the IBR material as of December 1, 2008.

2. Making corrections to the following entries listed in the paragraph 52.1070(c) chart, as described below:

a. COMAR 26.11.01.01B(53)—moving the text from the “State effective date” and the “EPA approval date” columns to the “EPA approval date” and “Additional explanation/citation at 40 CFR 52.1100” columns respectively; and adding new text to the “State effective date column.”

b. COMAR 26.11.06.02—correcting the regulatory citation in the “Additional explanation/citation at 40 CFR 52.1100” column.

c. COMAR 26.11.13.08—correcting the page citation in the “EPA approval date” column.

d. COMAR 26.11.17.01 and .03—correcting the text in the “State effective date” and “EPA approval date” columns.

e. COMAR 26.11.24.05-1—adding explanatory text to the “Additional explanation/citation at 40 CFR § 52.1100” column.

f. COMAR 26.11.32.13—revising the explanatory text in the “Additional explanation/citation at 40 CFR 52.1100” column.

g. TM81-04 and TM83-05—removing these entries from the chart. EPA had approved revisions to COMAR 26.11.10.07 on September 7, 2001 (66 FR 46727) and November 7, 2001 (66 FR 56222), indicating that TM91-01 had replaced TM81-04 and TM83-05 as the SIP enforceable test method document for iron and steel production facilities. See currently, §§ 52.1100(c)(153)(B)(1) and 52.1100(c)(163)(B)(3). Thus, EPA has determined that the inclusion of entries for TM81-04 and TM91-1 in paragraph 52.1070(c) published on or after November 29, 2004 has been in error.

3. Correcting minor miscellaneous typographical errors in the paragraph (c) and (d) charts.

4. Making corrections to the following entries listed in the paragraph 52.1070(d) chart, as described below:

a. PEPCO Chalk Point Units #1 and #2—Adding “Potomac Electric Power Company” to the “Name of source” column.

b. Kaydon Ring and Seal—removing text describing the SIP effective date from the “Additional explanation” column.

5. Making corrections to typographical errors of the Federal Register citations for the following entries listed in the paragraph 52.1070(e) chart:

a. 1990 Base Year Emissions Inventory—Kent & Queen Anne's Counties.

b. 1990 Base Year Emissions Inventory—Metropolitan Baltimore Ozone Nonattainment Area.

c. 1990 Base Year Emissions Inventory—Philadelphia-Wilmington-Trenton Ozone Nonattainment Area (Cecil County).

d. Post-1996 Rate of Progress Plan & contingency measures—Philadelphia-Wilmington-Trenton Ozone Nonattainment Area (Cecil County).

EPA has determined that today's rule falls under the “good cause”” exemption in section 553(b)(3)(B) of the Administrative Procedures Act (APA) which, upon finding “good cause” authorizes agencies to dispense with public participation, and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations and incorrect chart entries.

Statutory and Executive Order Reviews

A. General Requirements

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the Maryland SIP compilations had previously afforded interested parties the opportunity to file a petition for judicial review in the United States Court of Appeals for the appropriate circuit within 60 days of such rulemaking action. Thus, EPA sees no need in this action to reopen the 60-day period for filing such petitions for judicial review for this “Identification of plan” reorganization update action for Maryland.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: February 2, 2009.
William T. Wisniewski,
Acting Regional Administrator, Region III.

40 CFR part 52 is amended as follows:

PART 52—[AMENDED]

1. The authority for citation for part 52 continues to read as follows:

Authority: 42.U.S.C. 7401 et seq.

Subpart V—Maryland

2. Section 52.1070 is amended by revising paragraphs (b), (c), (d), and (e) to read as follows:

§ 52.1070 Identification of plan.

* * * * *

(b) Incorporation by reference. (1) Material listed as incorporated by reference in paragraphs (c) and (d) was approved for incorporation by reference by the Director of the Federal Register in accordance with 5 U.S.C. 552(a) and 1 CFR part 51. Material incorporated as it exists on the date of the approval, and notice of any change in the material will be published in the Federal Register. Entries in paragraphs (c) and (d) of this section with EPA approval dates on or after December 1, 2008 will be incorporated by reference in the next update to the SIP compilation.

(2) EPA Region III certifies that the rules/regulations provided by EPA at the addresses in paragraph (b)(3) of this section are an exact duplicate of the officially promulgated State rules/regulations which have been approved as part of the State implementation plan as of December 1, 2008.

(3) Copies of the materials incorporated by reference may be inspected at the EPA Region III Office at 1650 Arch Street, Philadelphia, PA 19103. For further information, call (215) 814-2108; the EPA, Air and Radiation Docket and Information Center, Room Number 3334, EPA West Building, 1301 Constitution Avenue, NW., Washington, DC 20460. For further information, call (202) 566-1742; or at the National Archives and Records Administration (NARA). For information on the availability of this material at NARA, call 202-741-6030, or go to: http://www.archives.gov/federal_register/code_of_federal_regulations/ibr_locations.html.

(c) EPA approved regulations.

EPA-Approved Regulations in the Maryland SIP
Code of Maryland Administrative Regulations (COMAR) citation | Title/subject | State effective date | EPA approval date | Additional explanation/citation at 40 CFR 52.1100
26.11.01 General Administrative Provisions
26.11.01.01A., .01B Exceptions: .01B(3), (13), (21) through (23), (25) | Definitions | 10/10/01 | 5/28/02, 67 FR 36810 | (c)(171); Additional EPA approvals are codified at §§ 52.1100(c)(119), (c)(122), (c)(143), (c)(148), (c)(158), (c)(159), and (c)(164).
26.11.01.01B(53) | Definitions—definition of volatile organic compound (VOC) | 10/8/07 | 3/31/08, 73 FR 10673 | Definition reflects the version of 40 CFR 51.100(s), as amended.
26.11.01.02 | Relationship of Provisions in this Subtitle | 8/1/88 | 11/3/92, 57 FR 49651 | (c)(90)(i)(B)(1).
26.11.01.03 | Delineation of Areas | 8/1/88 | 11/3/92, 57 FR 49651 | (c)(90)(i)(B)(1).
26.11.01.04 | Testing and Monitoring | 6/19/06 | 1/3/07, 72 FR 18 | Paragraph .04C(2) is added. The SIP effective date is 3/6/07.
26.11.01.05 | Records and Information | 6/30/97, 12/10/01 | 5/28/02, 67 FR 36810 | (c)(172).
26.11.01.05-1 | Emission Statements | 12/7/92 | 10/12/94, 59 FR 51517 | (c)(109).
26.11.01.06 | Circumvention | 8/1/88 | 11/3/92, 57 FR 49651 | (c)(90)(i)(B)(1).
26.11.01.07 | Malfunctions and Other Temporary Increases in Emissions | 8/1/88 | 11/3/92, 57 FR 49651 | (c)(90)(i)(B)(1).
26.11.01.08 | Determination of Ground Level Concentrations—Acceptable Techniques | 8/1/88 | 11/3/92, 57 FR 49651 | (c)(90)(i)(B)(5).
26.11.01.09 | Vapor Pressure of Gasoline | 8/1/88 | 11/3/92, 57 FR 49651 | (c)(90)(i)(B)(5)
26.11.01.10 | Continuous Emission Monitoring (CEM) Requirements | 7/22/91 | 2/28/96, 61 FR 7418 | (c)(106); TM90-01 was approved as “additional material”, but not IBR'd.
26.11.02 Permits, Approvals, and Registration
26.11.02.01 | Definitions | 5/8/95 | 2/27/03, 68 FR 9012 | (c)(182); Exceptions: 26.11.02.01B(1), (1-1), (4)-(6), (10), (15), (16), (22), (29)-(33), (37), (39), (42), (46), (49), (50), (54).
26.11.02.02 | General Provisions | 5/8/95 | 2/27/03, 68 FR 9012 | (c)(182); Exception: .02D.
26.11.02.03 | Federally Enforceable Permits to Construct and State Permits to Operate | 5/8/95 | 2/27/03, 68 FR 9012 | (c)(182).
26.11.02.04 | Duration of Permits | 5/8/95 | 2/27/03, 68 FR 9012 | (c)(182); Exception: .04C(2).
26.11.02.05 | Violation of Permits and Approvals | 5/8/95 | 2/27/03, 68 FR 9012 | (c)(182).
26.11.02.06 | Denial of Applications for State Permits and Approvals | 5/8/95, 6/16/97 | 2/27/03, 68 FR 9012 | (c)(182).
26.11.02.07 | Procedures for Denying, Revoking, or Reopening and Revising a Permit or Approval | 5/8/95 | 2/27/03, 68 FR 9012 | (c)(182).
26.11.02.08 | Late Applications and Delays in Acting on Applications | 5/8/95 | 2/27/03, 68 FR 9012 | (c)(182).
26.11.02.09 | Sources Subject to Permits to Construct and Approvals | 5/8/95, 5/4/98 | 2/27/03, 68 FR 9012 | (c)(182).
26.11.02.10 | Sources Exempt from Permits to Construct and Approvals | 5/8/95, 6/16/97, 9/22/97, 3/22/99 | 2/27/03, 68 FR 9012 | (c)(182).
26.11.02.11 | Procedures for Obtaining Permits to Construct Certain Significant Sources | 5/8/95, 6/16/97 | 2/27/03, 68 FR 9012 | (c)(182); Exception: .11C.
26.11.02.12 | Procedures for Obtaining Approvals of PSD Sources and NSR Sources, Permits to Construct, Permits to Construct MACT Determinations on a Case-by-Case Basis in Accordance with 40 CFR Part 63, Subpart B, and Certain 100-Ton Sources | 5/8/95 | 2/27/03, 68 FR 9012 | (c)(182).
26.11.02.13 | Sources Subject to State Permits to Operate | 5/8/95 | 2/27/03, 68 FR 9012 | (c)(182).
26.11.02.14 | Procedures for Obtaining State Permits to Operate and Permits to Construct Certain Sources and Permits to Construct Control Equipment on Existing Sources | 5/8/95, 6/16/97 | 2/27/03, 68 FR 9012 | (c)(182).
26.11.04 Ambient Air Quality Standards
26.11.04.02 | State-Adopted National Ambient Air Quality Standards | 5/8/95 | 8/20/01, 66 FR 43485 | (c)(165).
26.11.04.03 | Definitions, Reference Conditions, and Methods of Measurement | 2/28/05 | 6/14/06, 71 FR 34257 |
26.11.04.04 | Particulate Matter | 2/28/05 | 6/14/06, 71 FR 34257 | Addition of ambient air quality standard for PM2.5.
26.11.04.05 | Sulfur Oxides | 2/28/05 | 6/14/06, 71 FR 34257 |
26.11.04.06 | Carbon Monoxide | 1/5/88; recodified, 8/1/88 | 4/7/93, 58 FR 18010 | (c)(92).
26.11.04.07 | Ozone | 2/28/05 | 6/14/06, 71 FR 34257 | Addition of an 8-hour ambient air quality standard for ozone.
26.11.04.08 | Nitrogen Dioxide | 2/28/05 | 6/14/06, 71 FR 34257 |
26.11.04.09 | Lead | 8/1/88 | 11/3/92, 57 FR 49651 | (c)(90)(i)(B)(3).
26.11.05 Air Quality Episode System
26.11.05.01 | Definitions | 6/18/90 | 4/14/94, 59 FR 17698 | (c)(100).
26.11.05.02 | General Requirements | 6/18/90 | 4/14/94, 59 FR 17698 | (c)(100).
26.11.05.03 | Air Pollution Episode Criteria | 6/18/90 | 4/14/94, 59 FR 17698 | (c)(100).
26.11.05.04 | Standby Emissions Reduction Plan | 8/1/88 | 11/3/92, 57 FR 49651 | (c)(90)(i)(B)(4).
26.11.05.05 | Control Requirements and Standby Orders | 6/18/90 | 4/14/94, 59 FR 17698 | (c)(100).
26.11.05.06 | Tables | 8/1/88 | 11/3/92, 57 FR 49651 | (c)(90)(i)(B)(4).
26.11.06 General Emissions Standards, Prohibitions, and Restrictions
26.11.06.01 | Definitions | 5/8/91 | 11/29/94, 59 FR 60908 | (c)(102)(i)(B)(14).
26.11.06.02 [Except: .02A(1)(e), (1)(g), (1)(h), (1)(i)] | Visible Emissions | 11/24/03 | 8/1/07, 72 FR 41891 | Revised paragraph 26.11.06.02A(2).
26.11.06.03 | Particulate Matter | 11/11/02 | 8/6/03, 68 FR 46487 | (c)(181).
26.11.06.04 | Carbon Monoxide in Areas III and IV | 1/5/88; recodified, 8/1/88 | 4/7/93, 58 FR 18010 | (c)(92).
26.11.06.05 | Sulfur Compounds from Other than Fuel Burning Equipment | 11/11/02 | 8/6/03, 68 FR 46487 | (c)(181).
26.11.06.06 | Volatile Organic Compounds | 9/22/97 | 5/7/01, 66 FR 22924 | (c)(156) Note: On 2/27/03 (68 FR 9012), EPA approved a revised rule citation with a State effective date of 5/8/95 [(c)(182)(i)(C)].
26.11.06.10 | Refuse Burning Prohibited in Certain Installations | 8/1/88 | 11/3/92, 57 FR 49651 | (c)(90)(i)(B)(5).
26.11.06.14 | Control of PSD sources | 10/10/01 | 5/28/02, 67 FR 36810 | (c)(171).
26.11.06.15 | Nitrogen Oxides from Nitric Acid Plants | 8/1/88 | 11/3/92, 57 FR 49651 | (c)(90)(i)(B)(5).
26.11.06.16 | Tables | 8/1/88 | 11/3/92, 57 FR 49651 | (c)(90)(i)(B)(5).
26.11.07 Open Fires
26.11.07.01 | Definitions | 5/22/95 | 6/11/02, 67 FR 39856 | (c)(173).
26.11.07.02 | General | 5/22/95 | 2/25/97, 62 FR 8380 | (c)(120).
26.11.07.03 | Control Officer May Authorize Certain Open Fires | 8/11/97 | 6/11/02, 67 FR 39856 | (c)(173).
26.11.07.04 | Public Officers May Authorize Certain Fires | 5/22/95 | 2/25/97, 62 FR 8380 | (c)(120).
26.11.07.05 | Open Fires Allowed Without Authorization of Control Officer or Public Officer | 5/22/95 | 2/25/97, 62 FR 8380 | (c)(120) .05A(3) & (4), and .05B(3) are State-enforceable only.
26.11.07.06 | Safety Determinations at Federal Facilities | 8/11/97 | 6/11/02, 67 FR 39856 | (c)(173).
10.18.08/26.11.08 Control of Incinerators
10.18.08/26.11.08.01 | Definitions | 9/12/05 | 9/15/08, 73 FR 53130 | Definition of “crematory” is added.
10.18.08.02 | Applicability | 7/18/80 | 8/5/81, 46 FR 39818 | (c)(45).
10.18.08.03 | Prohibition of Certain Incinerators in Areas III and IV | 6/8/81 | 5/11/82, 47 FR 20126 | (c)(58).
10.18.08/26.11.08.04 | Visible Emissions | 11/24/03 | 8/1/07, 72 FR 41891 | Revised paragraph 26.11.08.04C.
10.18.08/26.11.08.05 | Particulate Matter | 9/12/05 | 9/15/08, 73 FR 53130 | Sections .05A(3) and .05B(2)(a) are revised.
10.18.08.06 | Prohibition of Unapproved Hazardous Waste Incinerators | 3/25/84 | 7/2/85, 50 FR 27245 | (c)(82).
26.11.09 Control of Fuel Burning Equipment and Stationary Internal Combustion Engines, and Certain Fuel-Burning Installations
26.11.09.01 | Definitions | 9/12/05 | 6/13/06, 71 FR 34014 | Revised definition of “interruptible gas service” in 26.11.09.01B(4).
26.11.09.02 | Applicability | 8/1/88 | 11/3/92, 57 FR 49651 | (c)(90)(i)(B)(7).
26.11.09.03 | General Conditions for Fuel Burning Equipment | 6/21/04 | 7/6/05, 70 FR 38774 | Revised paragraphs 26.11.09.03C(1) and .03C(2).
26.11.09.04 | Prohibition of Certain New Fuel Burning Equipment | 8/1/88 | 11/3/92, 57 FR 49651 | (c)(90)(i)(B)(7).
26.11.09.05 | Visible Emissions | 11/24/03 | 8/1/07, 72 FR 41891 | Revised paragraph 26.11.09.05A(3).
26.11.09.06 | Control of Particulate Matter | 6/21/04 | 7/6/05, 70 FR 38774 | Addition of paragraph 26.11.09.06C.
26.11.09.07 | Control of Sulfur Oxides from Fuel Burning Equipment | 8/1/88 | 11/3/92, 57 FR 49651 | (c)(90)(i)(B)(7).
26.11.09.08 | Control of NOX Emissions for Major Stationary Sources | 11/24/03 | 9/20/04, 69 FR 56170 | (c)(191).
26.11.09.09 | Tables and Diagrams | 11/11/02 | 5/1/03, 68 FR 23206 | (c)(183); Revised Table 1.
26.11.10 Control of Iron and Steel Production Installations
26.11.10.01 | Definitions | 12/25/00 | 11/7/01, 66 FR 56222 | (c)(163).
26.11.10.02 | Applicability | 11/2/98 | 9/7/01, 66 FR 46727 | (c)(153).
26.11.10.03 | Visible Emissions | 11/24/03 | 8/1/07, 72 FR 41891 | Revised paragraph 26.11.10.03A(2).
26.11.10.04 | Control of Particulate Matter | 11/2/98 | 9/7/01, 66 FR 46727 | (c)(153).
26.11.10.05 | Sulfur Content Limitations for Coke Oven Gas | 11/2/98 | 9/7/01, 66 FR 46727 | (c)(153).
26.11.10.06[1] | Control of Volatile Organic Compounds from Iron and Steel Production Installations | 12/25/00 | 11/7/01, 66 FR 56222 | (c)(163).
26.11.10.06[2] | Carbon Monoxide | 8/1/88 | 11/3/92, 57 FR 49651 | (c)(90)(i)(B)(8).
26.11.10.07 | Testing and Observation Procedures | 12/25/00 | 11/7/01, 66 FR 56222 | (c)(163).
26.11.11 Control of Petroleum Products Installations, Including Asphalt Paving, Asphalt Concrete Plants, and Use of Waste Oils
26.11.11.01 | Applicability | 8/1/88 | 11/3/92, 57 FR 49651 | (c)(90)(i)(B)(9).
26.11.11.02 | Asphalt Paving | 4/26/93 | 1/6/95, 60 FR 2018 | (c)(113)(i)(B)(1).
26.11.11.03 | Asphalt Concrete Plants in Areas I, II, V, and VI | 8/1/88 | 11/3/92, 57 FR 49651 | (c)(90)(i)(B)(9).
26.11.11.06 | Use of Waste Oils as Fuel | 8/1/88 | 11/3/92, 57 FR 49651 | (c)(90)(i)(B)(9).
26.11.12 Control of Batch Type Hot-Dip Galvanizing Installations
26.11.12.01 | Definitions | 5/8/95 | 7/25/00, 64 FR 45743 | (c)(149).
26.11.12.02 | Applicability | 5/8/95 | 7/25/00, 64 FR 45743 | (c)(149).
26.11.12.03 | Prohibitions and Exemptions | 5/8/95 | 7/25/00, 64 FR 45743 | (c)(149).
26.11.12.04 | Visible Emissions | 8/1/88 | 11/3/92, 57 FR 49651 | (c)(90)(i)(B)(10).
26.11.12.05 | Particulate Matter | 8/1/88 | 11/3/92, 57 FR 49651 | (c)(90)(i)(B)(10).
26.11.12.06 | Reporting Requirements | 8/1/88 | 11/3/92, 57 FR 49651 | (c)(90)(i)(B)(10).
26.11.13 Control of Gasoline and Volatile Organic Compound Storage and Handling
26.11.13.01 | Definitions | 10/18/07 | 7/18/08, 73 FR 41268 |
26.11.13.02 | Applicability and Exemption | 4/26/93 | 1/6/95, 60 FR 2018 | (c)(113)(i)(B)(3).
26.11.13.03 | Large Storage Tanks | 8/1/88 | 11/3/92, 57 FR 49651 | (c)(90)(i)(B)(12).
26.11.13.04 | Loading Operations | 8/11/97 | 12/22/98, 63 FR 70667 | (c)(132).
26.11.13.05 | Gasoline Leaks from Tank Trucks | 2/15/93 | 1/6/95, 60 FR 2018 | (c)(112).
26.11.13.06 | Plans for Compliance | 4/26/93 | 1/6/95, 60 FR 2018 | (c)(113)(i)(B)(5).
26.11.13.07 | Control of Gasoline and VOC Emissions from Portable Fuel Containers | 6/18/07 | 7/17/08, 73 FR 40970 |
26.11.13.08 | Control of VOC Emissions from Marine Vessel Loading | 10/18/07 | 7/18/08, 73 FR 41268 | New Regulation.
26.11.14 Control of Emissions From Kraft Pulp Mills
26.11.14.01 | Definitions | 1/8/01, 10/15/01 | 11/7/01, 66 FR 56220 | (c)(170).
26.11.14.02 | Applicability | 1/8/01 | 11/7/01, 66 FR 56220 | (c)(170).
26.11.14.06 | Control of Volatile Organic Compounds | 1/8/01, 10/15/01 | 11/7/01, 66 FR 56220 | (c)(170).
26.11.17 Requirements for Major New Sources and Modifications
26.11.17.01 | Definitions | 11/24/03 | 9/20/04, 69 FR 56170 | 52.1070(c)(191).
26.11.17.02 | Applicability | 4/26/93, 10/2/00 | 2/12/01, 66 FR 9766 | 52.1070(c)(148).
26.11.17.03 | General Conditions | 11/24/03 | 9/20/04, 69 FR 56170 | 52.1070(c)(191).
26.11.17.04 | Baseline for Determining Credit for Emission and Air Quality Offsets | 4/26/93, 10/2/00 | 2/12/01, 66 FR 9766 | 52.1070(c)(148).
26.11.17.05 | Administrative Procedures | 4/26/93, 10/2/00 | 2/12/01, 66 FR 9766 | 52.1070(c)(148).
26.11.19 Volatile Organic Compounds From Specific Processes
26.11.19.01 | Definitions | 6/5/95 | 9/2/97, 62 FR 46199 | (c)(126) Note: On 5/13/1998 (63 FR 26462), EPA approved the revised definition of “major stationary source of VOC “ with a State effective date of 5/8/1995 [(c)(128)].
26.11.19.02 | Applicability, Determining Compliance, Reporting, and General Requirements | 5/4/98, 12/10/01 | 2/3/03, 68 FR 5228 | (c)(174), (c)(175) 1. Limited approval of paragraph .02G (9/4/98, 63 FR 47174) [(c)(131)-(c)(133)]. 2. On 2/27/03 (68 FR 9012), EPA approved a revised rule citation with a State effective date of 5/8/95 [(c)(182)(i)(D)].
26.11.19.03 | Automotive and Light-Duty Truck Coating | 9/22/97 | 11/5/98, 63 FR 59720 | (c)(140).
26.11.19.04 | Can Coating | 8/1/88 | 11/3/92, 57 FR 49651 | (C)(90)(i)(B)(12).
26.11.19.05 | Coil Coating | 8/1/88 | 11/3/92, 57 FR 49651 | (C)(90)(i)(B)(12).
26.11.19.06 | Large Appliance Coating | 8/1/88 | 11/3/92, 57 FR 49651 | (C)(90)(i)(B)(12).
26.11.19.07 | Paper, Fabric, Vinyl and Other Plastic Parts Coating | 8/24/98 | 1/14/2000, 64 FR 2334 | (c)(147).
26.11.19.07-1 | Control of VOC Emissions from solid Resin Decorative Surface Manufacturing | 6/15/98 | 6/17/99, 64 FR 32415 | (c)(142).
26.11.19.08 | Metal Furniture Coating | 8/1/88 | 11/3/92, 57 FR 49651 | (C)(90)(i)(B)(12).
26.11.19.09 | Control of Volatile Organic Compounds (VOC) Emissions from cold and Vapor Degreasing | 6/5/95 | 8/4/97, 62 FR 41853 | (c)(123).
26.11.19.10 | Flexographic and Rotogravure Printing | 6/5/95 | 9/2/97, 62 FR 46199 | (c)(126).
26.11.19.11 | Control of Volatile Organic Compounds (VOC) Emissions from Sheet-Fed and Web Lithographic Printing | 6/5/95 | 9/2/97, 62 FR 46199 | (c)(126).
26.11.19.12 | Dry Cleaning Installations | 9/22/97 | 9/2/98, 63 FR 46662 | (c)(131).
26.11.19.13 | Miscellaneous Metal Coating | 5/8/91 | 11/29/94, 59 FR 60908 | (c)(102)(i)(B)(6).
26.11.19.13-1 | Aerospace Coating Operations | 10/2/00, 10/15/01 | 11/7/01, 66 FR 56220 | (c)(169).
26.11.19.13-2 | Brake Shoe Coating Operations | 8/24/98 | 6/17/99, 64 FR 32415 | (c)(142).
26.11.19.13-3 | Control of VOC Emissions from Structural Steel Coating Operations | 6/29/98 | 6/17/99, 64 FR 32415 | (c)(142).
26.11.19.14 | Manufacture of Synthesized Pharmaceutical Products | 5/8/91 | 11/29/94, 59 FR 60908 | (c)(102)(i)(B)(14).
26.11.19.15 | Paint, Resin, and Adhesive Manufacturing and Adhesive Application | 5/4/98, 3/22/99 | 10/28/99, 64 FR 57989 | (c)(145).
26.11.19.16 | Control of VOC Equipment Leaks | 8/19/91 | 9/7/94, 59 FR 46180 | (c)(103)(i)(B)(9).
26.11.19.17 | Control of Volatile Organic Compounds (VOC) Emissions from Yeast Manufacturing | 9/12/05 | 3/31/06, 71 FR 16237 |
26.11.19.18 | Control of Volatile Organic Compounds (VOC) Emissions from Screen Printing and Digital Imaging | 6/10/02 | 1/15/03, 68 FR 1972 | (c)(177).
26.11.19.19 | Control of Volatile Organic Compounds (VOC) Emissions from Expandable Polystyrene Operations | 10/2/00 | 5/7/01, 66 FR 22924 | (c)(156).
26.11.19.21 | Control of Volatile Organic Compounds (VOC) Emissions from Commercial Bakery Ovens | 7/3/95 | 10/15/97, 62 FR 53544 | (c)(125)(i)(B)(4).
26.11.19.22 | Control of Volatile Organic Compounds (VOC) Emissions from Vinegar Generators | 8/11/97 | 9/23/99, 64 FR 41445 | (c)(137).
26.11.19.23 | Control of VOC Emissions from Vehicle Refinishing | 5/22/95 | 8/4/97, 62 FR 41853 | (c)(124).
26.11.19.24 | Control of VOC Emissions from Leather Coating Operations | 8/11/97 | 9/23/99, 64 FR 41445 | (c)(137).
26.11.19.25 | Control of Volatile Organic Compounds from Explosives and Propellant Manufacturing | 8/11/97 | 1/26/99, 64 FR 3852 | (c)(141).
26.11.19.26 | Control of Volatile Organic Compound Emissions from Reinforced Plastic Manufacturing | 8/11/97 | 8/19/99, 64 FR 45182 | (c)(139).
26.11.19.27 | Control of Volatile Organic Compounds from Marine Vessel Coating Operations | 10/20/97 | 9/5/01, 66 FR 46379 | (c)(166).
26.11.19.28 | Control of Volatile Organic Compounds from Bread and Snack Food Drying Operations | 10/2/00 | 5/7/01, 66 FR 22924 | (c)(157).
26.11.19.29 | Control of Volatile Organic Compounds from Distilled Spirits Facilities | 10/2/00, 10/15/01 | 11/7/01, 66 FR 56220 | (c)(160).
26.11.19.30 | Control of Volatile Organic Compounds from Organic Chemical Production and Polytetrafluoroethylene Installations | 12/10/01, 11/11/02 | 6/3/03, 68 FR 33000 | (c)(176).
26.11.19.31 | Control of Volatile Organic Compounds from Medical Device Manufacturing | 6/5/06 | 1/11/07, 72 FR 1289 |
26.11.20 Mobile Sources
26.11.20.02 | Motor Vehicle Emission Control Devices | 8/1/88 | 11/3/92, 57 FR 49651 | (c)(90)(i)(B)(13) [as 26.11.20.06].
26.11.20.03 | Motor Vehicle Fuel Specifications | 10/26/92 | 6/10/94, 59 FR 29957 | (c)(101)(i)(B)(3).
26.11.20.04 | National Low Emission Vehicle Program | 3/22/99 | 12/28/99, 64 FR 72564 | (c)(146).
26.11.24 Stage II Vapor Recovery at Gasoline Dispensing Facilities
26.11.24.01 | Definitions | 1/29/07 | 1/17/08, 73 FR 3187 | Addition of “Certified Inspector” and “ ‘Vapor Recovery System.”
26.11.24.01-1 | Incorporation by Reference | 4/15/02 | 5/7/03, 68 FR 24363 | (c)(178).
26.11.24.02 | Applicability, Exemptions, and Effective Date | 4/15/02 | 5/7/03, 68 FR 24363 | (c)(178).
26.11.24.03 | General Requirements | 4/15/02 | 5/7/03, 68 FR 24363 | (c)(178).
26.11.24.04 | Testing Requirements | 02/28/05 | 5/8/06, 71 FR 26688 |
26.11.24.05 | Inspection Requirements | 2/15/93 | 6/9/94, 59 FR 29730 | (c)(107).
26.11.24.05-1 | Inspections by a Certified Inspector | 1/29/07 | 1/17/08, 73 FR 3187 | Added Section.
26.11.24.06 | Training Requirements for Operation and Maintenance of Approved Systems | 2/15/93 | 6/9/94, 59 FR 29730 | (c)(107).
26.11.24.07 | Record-Keeping and Reporting Requirements | 2/28/05 | 5/8/06, 71 FR 26688 |
26.11.24.08 | Instructional Signs | 2/15/93 | 6/9/94, 59 FR 29730 | (c)(107).
26.11.24.09 | Sanctions | 2/15/93 | 6/9/94, 59 FR 29730 | (c)(107).
26.11.25 Control of Glass Melting Furnaces
26.11.25.01 | Definitions | 10/5/98 | 10/19/05, 70 FR 60738 |
26.11.25.02 | Applicability and Exemptions | 10/5/98 | 10/19/05, 70 FR 60738 |
26.11.25.03 | Visible Emissions from Glass Melting Furnaces | 10/5/98 | 10/19/05, 70 FR 60738 |
26.11.25.04 | Particulate Matter Emissions from Glass Melting Furnaces | 10/5/98 | 10/19/05, 70 FR 60738 |
26.11.26 Conformity
26.11.26.01 | Definitions | 5/15/95, 6/5/95 | 12/9/98, 63 FR 67782 | (c)(136); definitions of Applicable implementation plan, Governor, State, and State air agency.
26.11.26.03 | General Conformity | 5/15/95, 6/5/95 | 12/9/98, 63 FR 67782 | (c)(136); current COMAR citation is 26.11.26.04.
26.11.27 Emission Limitations for Power Plants
26.11.27.01 | Definitions | 7/16/07 | 9/4/08, 73 FR 51599 |
26.11.27.02 | Applicability and Exceptions | 7/16/07 | 9/4/08, 73 FR 51599 |
26.11.27.03 | General Requirements | 7/16/07 | 9/4/08, 73 FR 51599 | Exceptions: Paragraphs .03B(7)(a)(iii) and .03D; the word “and” at the end of paragraph .03B(7)(a)(ii).
26.11.27.05 | Monitoring and Reporting Requirements | 7/16/07 | 9/4/08, 73 FR 51599 |
26.11.27.06 | Judicial Review of Penalty Waivers | 7/16/07 | 9/4/08, 73 FR 51599 |
26.11.29 NOX Reduction and Trading Program
26.11.29.01 | Definitions | 5/1/00 | 1/10/01, 66 FR 1866 | (c)(154)(i)(B)(1).
26.11.29.02 | Incorporation by Reference | 5/1/00 | 1/10/01, 66 FR 1866 | (c)(154)(i)(B)(1).
26.11.29.03 | Scope and Applicability | 5/1/00 | 1/10/01, 66 FR 1866 | (c)(154)(i)(B)(1).
26.11.29.04 | General Requirements for Affected Trading Sources | 5/1/00 | 1/10/01, 66 FR 1866 | (c)(154)(i)(B)(1).
26.11.29.05 | NOX Allowance Allocations | 5/1/00 | 1/10/01, 66 FR 1866 | (c)(154)(i)(B)(1).
26.11.29.06 | Compliance Supplement Pool | 5/1/00 | 1/10/01, 66 FR 1866 | (c)(154)(i)(B)(1).
26.11.29.07 | Allowance Banking | 5/1/00 | 1/10/01, 66 FR 1866 | (c)(154)(i)(B)(1).
26.11.29.08 | Emission Monitoring | 5/1/00 | 1/10/01, 66 FR 1866 | (c)(154)(i)(B)(1).
26.11.29.09 | Requirements for New Sources and Set-Aside Pool | 11/24/03 | 3/22/04, 69 FR 13236 | (c)(184)(i)(C)(1)-(5).
26.11.29.10 | Reporting | 5/1/00 | 1/10/01, 66 FR 1866 | (c)(154)(i)(B)(1).
26.11.29.11 | Recordkeeping | 5/1/00 | 1/10/01, 66 FR 1866 | (c)(154)(i)(B)(1).
26.11.29.12 | End-of-Season Reconciliation | 5/1/00 | 1/10/01, 66 FR 1866 | (c)(154)(i)(B)(1).
26.11.29.13 | Compliance Certification | 5/1/00 | 1/10/01, 66 FR 1866 | (c)(154)(i)(B)(1).
26.11.29.14 | Penalties | 5/1/00 | 1/10/01, 66 FR 1866 | (c)(154)(i)(B)(1).
26.11.29.15 | Requirements for Affected Nontrading Sources | 5/1/00 | 1/10/01, 66 FR 1866 | (c)(154)(i)(B)(1).
26.11.30 Policies and Procedures Relating to Maryland's NOX Reduction and Trading Program
26.11.30.01 | Scope and Applicability | 5/1/00 | 1/10/01, 66 FR 1866 | (c)(154)(i)(B)(2).
26.11.30.02 | Definitions | 5/1/00 | 1/10/01, 66 FR 1866 | (c)(154)(i)(B)(2).
26.11.30.03 | Procedures Relating to Compliance Accounts and Overdraft Accounts | 5/1/00 | 1/10/01, 66 FR 1866 | (c)(154)(i)(B)(2).
26.11.30.04 | Procedures Relating to General Accounts | 5/1/00 | 1/10/01, 66 FR 1866 | (c)(154)(i)(B)(2).
26.11.30.05 | Allowance Banking | 5/1/00 | 1/10/01, 66 FR 1866 | (c)(154)(i)(B)(2).
26.11.30.06 | Allowance Transfers | 5/1/00 | 1/10/01, 66 FR 1866 | (c)(154)(i)(B)(2).
26.11.30.07 | Early Reductions | 5/1/00 | 1/10/01, 66 FR 1866 | (c)(154)(i)(B)(2).
26.11.30.08 | Opt-In Procedures | 5/1/00 | 1/10/01, 66 FR 1866 | (c)(154)(i)(B)(2).
26.11.30.09 | Allocation of Allowances | 6/19/06 | 11/03/06, 71 FR 64647 | New column for 2008 allocations.
26.11.32 Control of Emissions of Volatile Organic Compounds From Consumer Products
26.11.32.01 | Applicability and Exemptions | 06/18/07 | 12/10/07, 72 FR 69621 |
26.11.32.02 | Incorporation by Reference | 06/18/07 | 12/10/07, 72 FR 69621 |
26.11.32.03 | Definitions | 06/18/07 | 12/10/07, 72 FR 69621 |
26.11.32.04 | Standards—General | 06/18/07 | 12/10/07, 72 FR 69621 |
26.11.32.05 | Standards—Requirements for Charcoal Lighter Materials | 08/18/03 | 12/09/03, 68 FR 68523 | (c)(185).
26.11.32.06 | Standards—Requirements for Aerosol Adhesives | 06/18/07 | 12/10/07, 72 FR 69621 |
26.11.32.07 | Standards—Requirements for Floor Wax Strippers | 08/18/03 | 12/09/03, 68 FR 68523 | (c)(185).
26.11.32.08 | Requirements for Contact Adhesives, Electronic Cleaners, Footwear, or Leather Care Products, and General Purpose Cleaners | 06/18/07 | 12/10/07, 72 FR 69621 | New Regulation.
26.11.32.09 | Requirements for Adhesive Removers, Electrical Cleaners, and Graffiti Removers | 06/18/07 | 12/10/07, 72 FR 69621 | New Regulation.
26.11.32.10 | Requirements for Solid Air Fresheners and Toilet and Urinal Care Products | 06/18/07 | 12/10/07, 72 FR 69621 | New Regulation.
26.11.32.11 | Innovative Products—CARB Exemption | 06/18/07 | 12/10/07, 72 FR 69621 | Recodification of existing Regulation .08.
26.11.32.12 | Innovative Products—Department Exemption | 06/18/07 | 12/10/07, 72 FR 69621 |
26.11.32.13 | Administrative Requirements | 06/18/07 | 12/10/07, 72 FR 69621 | Recodification of existing Regulation .10; Amended.
26.11.32.14 | Reporting Requirements | 06/18/07 | 12/10/07, 72 FR 69621 | Recodification of existing Regulation .11; Amended.
26.11.32.15 | Variances | 06/18/07 | 12/10/07, 72 FR 69621 | Recodification of existing Regulation .12; Amended.
26.11.32.16 | Test Methods | 06/18/07 | 12/10/07, 72 FR 69621 | Recodification of existing Regulation .13; Amended.
26.11.32.17 | Alternative Control Plan (ACP) | 06/18/07 | 12/10/07, 72 FR 69621 | Recodification of existing Regulation .14; Amended.
26.11.32.18 | Approval of an ACP Application | 06/18/07 | 12/10/07, 72 FR 69621 | Recodification of existing Regulation .15; Amended.
26.11.32.19 | Recordkeeping and Availability of Requested Information | 06/18/07 | 12/10/07, 72 FR 69621 | Recodification of existing Regulation .16.
26.11.32.20 | Violations | 06/18/07 | 12/10/07, 72 FR 69621 | Recodification of existing Regulation .17.
26.11.32.21 | Surplus Reduction and Surplus Trading | 06/18/07 | 12/10/07, 72 FR 69621 | Recodification of existing Regulation .18; Amended.
26.11.32.22 | Limited-use surplus reduction credits for early formulations of ACP Products | 06/18/07 | 12/10/07, 72 FR 69621 | Recodification of existing Regulation .19; Amended.
26.11.32.23 | Reconciliation of Shortfalls | 06/18/07 | 12/10/07, 72 FR 69621 | Recodification of existing Regulation .20; Amended.
26.11.32.24 | Modifications to an ACP | 06/18/07 | 12/10/07, 72 FR 69621 | Recodification of existing Regulation .21; Amended.
26.11.32.25 | Cancellation of an ACP | 06/18/07 | 12/10/07, 72 FR 69621 | Recodification of existing Regulation .22; Amended.
26.11.32.26 | Transfer of an ACP | 06/18/07 | 12/10/07, 72 FR 69621 | Recodification of existing Regulation .23.
26.11.33 Architectural Coatings
26.11.33.01 | Applicability and Exemptions | 3/29/04 | 5/12/05, 70 FR 24979 |
26.11.33.02 | Test Methods—Incorporation by Reference | 3/29/04 | 5/12/05, 70 FR 24979 |
26.11.33.03 | Definitions | 3/29/04 | 5/12/05, 70 FR 24979 |
26.11.33.04 | General Standard—VOC Content Limits | 3/29/04 | 5/12/05, 70 FR 24979 |
26.11.33.05 | VOC Content Limits | 3/29/04 | 5/12/05, 70 FR 24979 |
26.11.33.06 | Most Restrictive VOC Limit | 2/28/05 | 10/19/05, 70 FR 60740 | Addition of sections B(15) through B(19).
26.11.33.07 | Painting Restrictions | 3/29/04 | 5/12/05, 70 FR 24979 |
26.11.33.08 | Thinning | 3/29/04 | 5/12/05, 70 FR 24979 |
26.11.33.09 | Rust Preventive Coatings | 3/29/04 | 5/12/05, 70 FR 24979 |
26.11.33.10 | Coatings Not Listed in Regulation .05 | 2/28/05 | 10/19/05, 70 FR 60740 |
26.11.33.11 | Lacquers | 3/29/04 | 5/12/05, 70 FR 24979 |
26.11.33.12 | Container Labeling Requirements | 2/28/05 | 10/19/05, 70 FR 60740 | Deleted section K.
26.11.33.13 | Record Keeping Requirements | 2/28/05 | 10/19/05, 70 FR 60740 |
26.11.33.14 | Compliance Provisions and Test Methods | 3/29/04 | 5/12/05, 70 FR 24979 |
11.14.08 Vehicle Emissions Inspection Program
11.14.08.01 | Title | 1/02/95 | 10/29/99, 64 FR 58340 | (c)(144).
11.14.08.02 | Definitions | 1/02/95, 10/19/98 | 10/29/99, 64 FR 58340 | (c)(144).
11.14.08.03 | Applicability | 6/10/02 | 1/16/03, 68 FR 2208 | (c)(179).
11.14.08.04 | Exemptions | 1/02/95 | 10/29/99, 64 FR 58340 | (c)(144).
11.14.08.05 | Schedule of the Program | 1/02/95, 12/16/96 | 10/29/99, 64 FR 58340 | (c)(144).
11.14.08.06 | Certificates | 6/10/02 | 1/16/03, 68 FR 2208 | (c)(179).
11.14.08.07 | Extensions | 1/02/95, 10/19/98 | 10/29/99, 64 FR 58340 | (c)(144).
11.14.08.08 | Enforcement | 1/02/95 | 10/29/99, 64 FR 58340 | (c)(144).
11.14.08.09 | Inspection Standards | 6/10/02 | 1/16/03, 68 FR 2208 | (c)(179).
11.14.08.10 | General Requirements for Inspection and Preparation for Inspection | 1/02/95, 12/16/96, 10/19/98 | 10/29/99, 64 FR 58340 | (c)(144).
11.14.08.11 | Idle Exhaust Emissions Test and Equipment Checks | 10/18/98 | 10/29/99, 64 FR 58340 | (c)(144).
11.14.08.11-1 | Transient Exhaust Emissions Test and Evaporative Purge Test Sequence | 12/16/96, 10/19/98 | 10/29/99, 64 FR 58340 | (c)(144).
11.14.08.12 | Evaporative Integrity Test, Gas Cap Leak Test, and On-Board Diagnostics Interrogation Procedures | 6/10/02 | 1/16/03, 68 FR 2208 | (c)(179).
11.14.08.13 | Failed Vehicle and Reinspection Procedures | 1/02/95 | 10/29/99, 64 FR 58340 | (c)(144).
11.14.08.14 | Dynamometer System Specifications | 1/02/95 | 10/29/99, 64 FR 58340 | (c)(144).
11.14.08.15 | Constant Volume Sampler, Analysis System, and Inspector Control Specifications | 1/02/95, 10/19/98 | 10/29/99, 64 FR 58340 | (c)(144).
11.14.08.16 | Evaporative Test Equipment, Gas Cap Leak Test Equipment, and On-Board Diagnostics Interrogation Equipment Specifications | 6/10/02 | 1/16/03, 68 FR 2208 | (c)(179).
11.14.08.17 | Quality Assurance and Maintenance—General Requirements | 1/02/95 | 10/29/99, 64 FR 58340 | (c)(144).
11.14.08.18 | Test Assurance Procedures | 1/02/95 | 10/29/99, 64 FR 58340 | (c)(144).
11.14.08.19 | Dynamometer Periodic Quality Assurance Checks | 1/02/95 | 10/29/99, 64 FR 58340 | (c)(144).
11.14.08.20 | Constant Volume Sampler Periodic Quality Assurance Checks | 1/02/95 | 10/29/99, 64 FR 58340 | (c)(144).
11.14.08.21 | Analysis System Periodic Quality Assurance Checks | 1/02/95 | 10/29/99, 64 FR 58340 | (c)(144).
11.14.08.22 | Evaporative Test Equipment, Gas Cap Leak Test Equipment and On-board Diagnostics Interrogation Equipment Periodic Quality Assurance Checks | 1/02/95, 10/19/98 | 10/29/99, 64 FR 58340 | (c)(144).
11.14.08.23 | Overall System Performance Quality Assurance | 1/02/95 | 10/29/99, 64 FR 58340 | (c)(144).
11.14.08.24 | Control Charts | 1/02/95 | 10/29/99, 64 FR 58340 | (c)(144).
11.14.08.25 | Gas Specifications | 1/02/95 | 10/29/99, 64 FR 58340 | (c)(144).
11.14.08.26 | Vehicle Emissions Inspection Station | 1/02/95 | 10/29/99, 64 FR 58340 | (c)(144).
11.14.08.27 | Technician's Vehicle Report | 1/02/95, 10/19/98 | 10/29/99, 64 FR 58340 | (c)(144).
11.14.08.28 | Feedback Reports | 1/02/95, 10/19/98 | 10/29/99, 64 FR 58340 | (c)(144).
11.14.08.29 | Certified Emissions Technician | 1/02/95, 12/16/96 | 10/29/99, 64 FR 58340 | (c)(144).
11.14.08.30 | Certified Emissions Repair Facility | 1/02/95, 12/16/96 | 10/29/99, 64 FR 58340 | (c)(144).
11.14.08.31 | On-Highway Emissions Test | 1/02/95 | 10/29/99, 64 FR 58340 | (c)(144).
11.14.08.32 | Fleet Inspection Station | 1/02/95, 12/16/96, 10/19/98 | 10/29/99, 64 FR 58340 | (c)(144).
11.14.08.33 | Fleet Inspection Standards | 1/02/95 | 10/29/99, 64 FR 58340 | (c)(144).
11.14.08.34 | Fleet Inspection and Reinspection Methods | 1/02/95 | 10/29/99, 64 FR 58340 | (c)(144).
11.14.08.35 | Fleet Equipment and Quality Assurance Requirements | 1/02/95 | 10/29/99, 64 FR 58340 | (c)(144).
11.14.08.36 | Fleet Personnel Requirements | 1/02/95 | 10/29/99, 64 FR 58340 | (c)(144).
11.14.08.37 | Fleet Calibration Gas Specifications and Standard Reference Materials | 1/02/95 | 10/29/99, 64 FR 58340 | (c)(144).
11.14.08.38 | Fleet Recordkeeping Requirements | 1/02/95 | 10/29/99, 64 FR 58340 | (c)(144).
11.14.08.39 | Fleet Fees | 1/02/95 | 10/29/99, 64 FR 58340 | (c)(144).
11.14.08.40 | Fleet License Suspension and Revocation | 1/02/95 | 10/29/99, 64 FR 58340 | (c)(144).
11.14.08.41 | Audits | 1/02/95 | 10/29/99, 64 FR 58340 | (c)(144).
11.14.08.42 | Fleet Inspection After 1998 | 1/02/95, 2/16/96, 10/19/98 | 10/29/99, 64 FR 58340 | (c)(144).
03.03.05 Motor Fuel Inspection [Contingency SIP Measure]
03.03.05.01 | Definitions | 12/18/95 | 1/30/96, 61 FR 2982 | (c)(101)(i)(B)(4); Approved as a contingency SIP measure as part of the CO Maintenance Plans for Baltimore and DC. [(c)(117) and (c)(118)].
03.03.05.01-1 | Standard Specifications for Gasoline | 12/18/95 | 1/30/96, 61 FR 2982 |
03.03.05.02-1 | Other Motor Vehicle Fuels | 10/26/92 | 6/10/94, 58 FR 29957 |
03.03.05.05 | Labeling of Pumps | 12/18/95 | 1/30/96, 61 FR 2982 |
03.03.05.08 | Samples and Test Tolerance | 10/26/92 | 6/10/94, 58 FR 29957 |
03.03.05.15 | Commingled Products | 10/26/92 | 6/10/94, 58 FR 29957 |
03.03.06 Emissions Control Compliance [Contingency SIP Measure]
03.03.06.01 | Definitions | 12/18/95 | 1/30/96, 61 FR 2982 | (c)(101)(i)(B)(5); Approved as a contingency SIP measure as part of the CO Maintenance Plans for Baltimore and DC. [(c)(117) and (c)(118)].
03.03.06.02 | Vapor Pressure Determination | 10/26/92 | 6/10/94, 58 FR 29957 |
03.03.06.03 | Oxygen Content Determination | 12/18/95 | 1/30/96, 61 FR 2982 |
03.03.06.04 | Registration | 10/26/92 | 6/10/94, 58 FR 29957 |
03.03.06.05 | Record Keeping | 10/26/92 | 6/10/94, 58 FR 29957 |
03.03.06.06 | Transfer Documentation | 12/18/95 | 1/30/96, 61 FR 2982 |
TM Technical Memoranda
TM91-01 [Except Methods 1004A through E] | Test Methods and Equipment Specifications for Stationary Sources | 11/2/98 | 9/7/01, 66 FR 46727 | (c)(153)(i)(D)(5) (Supplement 3 is added).

(d) EPA approved state source-specific requirements.

Name of source | Permit number/type | State effective date | EPA approval date | Additional explanation
Potomac Electric Power Company (PEPCO)—Chalk Point Units #1 and #2 | #49352, Amended Consent Order | 1/27/78 | 4/2/79, 44 FR 19192 | 52.1100(c)(22); FRN republished 5/3/79 (44 FR 25840).
Potomac Electric Power Company (PEPCO)—Dickerson | #49352, Amended Consent Order | 7/26/78 | 12/6/79, 44 FR 70141 | 52.1100(c)(25).
Beall Jr./Sr. High School | Consent Order | 1/30/79 | 3/18/80, 45 FR 17144 | 52.1100(c)(26).
Mt. Saint Mary's College | Consent Order | 3/8/79 | 3/18/80, 45 FR 17144 | 52.1100(c)(26).
Potomac Electric Power Company (PEPCO)—Chalk Point | Secretarial Order | 7/19/79 | 9/3/80, 45 FR 58340 | 52.1100(c)(34).
Maryland Slag Co | Consent Agreement (Order) | 10/31/80 | 9/8/81, 41 FR 44757 | 52.1100(c)(49).
Northeast Maryland Waste Disposal Authority | Secretarial Order | 11/20/81 | 7/7/82, 47 FR 29531 | 52.1100(c)(65) (Wheelabrator-Frye, Inc.).
Northeast Maryland Waste Disposal Authority and Wheelabrator-Frye, Inc. and the Mayor and City Council of Baltimore and BEDCO Development Corp | Secretarial Order | 2/25/83 | 8/24/83, 45 FR 55179 | 52.1100(c)(70) (Shutdown of landfill for offsets).
Westvaco Corp | Consent Order | 9/6/83; Rev. 1/26/84 | 12/20/84, 49 FR 49457 | 52.1100(c)(74).
Potomac Electric Power Company (PEPCO) | Administrative Consent Order | 9/13/99 | 12/15/00, 65 FR 78416 | 52.1100(c)(151).
Thomas Manufacturing Corp | Consent Decree | 2/15/01 | 11/15/01, 66 FR 57395 | 52.1100(c)(167).
Constellation Power Source Generation, Inc.—Brandon Shores Units #1 & 2; Gould Street Unit #3; H.A. Wagner Units #1, 2, 3 & 4; C.P. Crane Units #1 & 3; and Riverside Unit #4 | Consent Order and NOX RACT Averaging Plan Proposal | 4/25/01 | 2/27/02, 67 FR 8897 | 52.1100(c)(168).
Kaydon Ring and Seal, Inc | Consent Order | 3/5/04 | 8/31/04, 69 FR 53002 | (c)(190).
Perdue Farms, Inc | Consent Order | 2/1/05 | 1/11/07, 72 FR 1291 | 52.1070(d)(1).

(e) EPA-approved nonregulatory and quasi-regulatory material.

Name of non-regulatory SIP revision | Applicable geographic area | State submittal date | EPA approval date | Additional explanation
Base Year Emissions Inventory | Metropolitan Baltimore Ozone Nonattainment Area 1990 | 9/20/95 | 10/30/95, 60 FR 55321 | 52.1075(a) CO.
1990 Base Year Emissions Inventory | Metropolitan Washington Ozone Nonattainment Area | 3/21/94 10/12/95 | 1/30/96, 61 FR 2931 | 52.1075(b) CO.
1990 Base Year Emissions Inventory | All ozone nonattainment areas | 3/21/94 | 9/27/96, 61 FR 50715 | 52.1075(c) VOC, NOX, CO.
1990 Base Year Emissions Inventory | Kent & Queen Anne's Counties | 3/21/94 | 9/27/96, 61 FR 50715 | 52.1075(d) VOC, NOX, CO.
1990 Base Year Emissions Inventory | Metropolitan Washington Ozone Nonattainment Area | 3/21/94 | 4/23/97, 62 FR 19676 | 52.1075(e) VOC, NOX, CO.
1990 Base Year Emissions Inventory | Metropolitan Washington Ozone Nonattainment Area | 12/24/97 | 7/8/98, 63 FR 36854 | 52.1075(f) VOC, NOX.
1990 Base Year Emissions Inventory | Metropolitan Baltimore Ozone Nonattainment Area | 12/24/97 | 2/3/00, 65 FR 5245 | 52.1075(g) VOC, NOX.
1990 Base Year Emissions Inventory | Philadelphia-Wilmington-Trenton Ozone Nonattainment Area (Cecil County) | 12/24/97, 4/29/98, 12/21/99, 12/28/00 | 2/3/00, 65 FR 5252, 9/19/01, 66 FR 48209 | 52.1075(h) VOC, NOX.
15% Rate of Progress Plan | Philadelphia-Wilmington-Trenton Ozone Nonattainment Area (Cecil County) | 7/12/95, #95-20 | 7/29/97, 62 FR 40457 | 52.1076(a).
Stage II Vapor Recovery Comparability Plan | Western Maryland & Eastern Shore Counties | 11/5/97 | 12/9/98, 63 FR 67780 | 52.1076(b).
15% Rate of Progress Plan | Metropolitan Baltimore Ozone Nonattainment Area | 10/7/98 | 2/3/00, 65 FR 5245 | 52.1076(c).
15% Rate of Progress Plan | Metropolitan Washington Ozone Nonattainment Area | 5/5/98 | 7/19/00, 65 FR 44686 | 52.1076(d).
Post-1996 Rate of Progress Plan & contingency measures | Philadelphia-Wilmington-Trenton Ozone Nonattainment Area (Cecil County) | 12/24/97, 4/24/98 | 2/3/00, 65 FR 5252 | 52.1076(f).
|  | 8/18/98, 12/21/99 | 9/19/01, 66 FR 44809 |
|  | 12/28/00, 3/8/04 | 4/15/04, 69 FR 19939 | 52.1076(f)(3).
Ozone Attainment Plan | Philadelphia-Wilmington-Trenton Ozone Nonattainment Area (Cecil County) | 4/29/98, 8/18/98, 12/21/99, 12/28/00, 8/31/01 | 10/29/01, 66 FR 54578 | 52.1076(h).
|  | 9/2/03 | 10/27/03, 68 FR 61103 |
Transportation Conformity Budgets | Philadelphia-Wilmington-Trenton Ozone Nonattainment Area (Cecil County) | 4/29/98, 8/18/98, 12/21/99, 12/28/00 | 10/29/01, 66 FR 54578 | 52.1076(i).
Post-1996 Rate of Progress Plan & contingency measures | Metropolitan Baltimore Ozone Nonattainment Area | 12/24/97, 4/24/98, 8/18/98, 12/21/99, 12/28/00 | 9/26/01, 66 FR 49108 | 52.1076(j).
Ozone Attainment Plan | Metropolitan Baltimore Ozone Nonattainment Area | 4/29/98, 8/18/98, 12/21/99, 12/28/00, 8/31/01 | 10/30/01, 66 FR 54666 | 52.1076(k).
|  | 9/2/03 | 10/27/03, 68 FR 61103 | 52.1076(k).
Mobile budgets | Metropolitan Baltimore Ozone Nonattainment Area | 8/31/01 | 10/30/01, 66 FR 54666 | 52.1076(l).
|  | 9/2/03 | 10/27/03, 68 FR 61103 |
Mobile budgets (2005) | Metropolitan Baltimore Ozone Nonattainment Area | 9/2/03 | 10/27/03, 68 FR 61103 | 52.1076(m).
| Philadelphia-Wilmington-Trenton Ozone Nonattainment Area (Cecil County) |  |  |
Mobile budgets (2005 Rate of Progress Plan) | Metropolitan Baltimore Ozone Nonattainment Area | 11/3/03 | 2/13/04, 69 FR 7133 | 52.1076(n).
Extension for incorporation of the on-board diagnostics (OBD) testing program into the Maryland I/M SIP | All ozone nonattainment areas | 7/9/02 | 1/16/03, 68 FR 2208 | 52.1078(b).
Photochemical Assessment Monitoring Stations (PAMS) Program | Metropolitan Baltimore and Metropolitan Washington Ozone Nonattainment Areas | 3/24/94 | 9/11/95, 60 FR 47081 | 52.1080.
Consultation with Local Officials (CAA Sections 121 & 127) | All nonattainment & PSD areas | 10/8/81 | 4/8/82, 47 FR 15140 | 52.1100(c)(63).
Lead (Pb) SIP | City of Baltimore | 10/23/80 | 2/23/82, 47 FR 7835 | 52.1100(c)(60), (61).
TM#90-01—“Continuous Emission Monitoring Policies and Procedures”—October 1990 | Statewide | 9/18/91 | 2/28/96, 61 FR 7418 | 52.1100(c)(106); approved into SIP as “additional material”, but not IBR'd.
Carbon Monoxide Maintenance Plan | City of Baltimore-Regional Planning District 118 | 9/20/95 | 10/31/95, 60 FR 55321 | 52.1100(c)(117).
|  | 7/15/04 | 04/04/05, 70 FR 16958 | Revised Carbon Monoxide Maintenance Plan Base Year Emissions Inventory using MOBILE6.
Carbon Monoxide Maintenance Plan | Montgomery County Election Districts 4, 7, and 13; Prince Georges County Election Districts 2, 6, 16, 16, 17 and 18 | 10/12/95 | 1/30/96, 61 FR 2931 | 52.1100(c)(118).
|  | 3/3/04 | 04/04/05, 70 FR 16958 | Revised Carbon Monoxide Maintenance Plan Base Year Emissions Inventory using MOBILE6.
Ozone Maintenance Plan | Kent and Queen Anne's Counties | 2/4/04 | 10/21/04, 69 FR 61766 | 52.1100(c)(187); SIP effective date is 11/22/04.
1996-1999 Rate-of-Progress Plan SIP and the Transportation Control Measures (TCMs) in Appendix H | Washington DC 1-hour ozone nonattainment area | 12/20/97, 5/20/99 | 5/16/05, 70 FR 25688 | Only the TCMs in Appendix H of the 5/20/1999 revision.
|  |  |  | 1999 motor vehicle emissions budgets of 128.5 tons per day (tpy) of VOC and 196.4 tpy of NOX.
1990 Base Year Inventory Revisions | Washington DC 1-hour ozone nonattainment area | 9/2/03, 2/24/04 | 5/16/05, 70 FR 25688 | .
1999-2005 Rate-of-Progress Plan SIP Revision and the Transportation Control Measures (TCMs) in Appendix J | Washington DC 1-hour ozone nonattainment area | 9/2/03, 2/24/04 | 5/16/05, 70 FR 25688 | Only the TCMs in Appendix J of the 2/24/2004 revision 2002 motor vehicle emissions budgets (MVEBs) of 125.2 tons per day (tpy) for VOC and 290.3 tpy of NOX, and, 2005 MVEBs of 97.4 tpy for VOC and 234.7 tpy of NOX.
VMT Offset SIP Revision | Washington DC 1-hour ozone nonattainment area | 9/2/03, 2/24/04 | 5/16/05, 70 FR 25688 |
Contingency Measure Plan | Washington, DC Area | 9/2/03, 2/24/04 | 5/16/05, 70 FR 25688 |
1-hour Ozone Modeled Demonstration of Attainment | Washington DC 1-hour ozone nonattainment area | 9/2/03, 2/24/04 | 5/16/05, 70 FR 25688 |
Attainment Demonstration and Early Action Plan for the Washington County Ozone Early Action Compact Area | Washington County | 12/20/04, 2/28/05 | 8/17/05, 70 FR 48283 |
1-hour Ozone Attainment Plan | Washington DC 1-hour ozone nonattainment area | 9/2/2003, 2/24/2004 | 11/16/05, 70 FR 69440 |
8-Hour Ozone Maintenance Plan for the Kent and Queen Anne's Area | Kent and Queen Anne's Counties | 05/2/06, 05/19/06 | 12/22/06, 71 FR 76920 |

[FR Doc. E9-5827 Filed 3-18-09; 8:45 am]

BILLING CODE 6560-50-P